DEPARTMENT OF COMMERCE

National Oceanic and Atmospheric Administration

DEPARTMENT OF THE INTERIOR

Fish and Wildlife Service

[I.D. 081806E]

Marine Mammals and Endangered Species; National Marine Fisheries Service File No. 116-1691; U.S. Fish and Wildlife Service File No. PRT-062475

AGENCIES: National Marine Fisheries Service (NMFS), National Oceanic and Atmospheric Administration (NOAA), Commerce; U.S. Fish and Wildlife Service (USFWS), Interior.

ACTION: Notice; issuance of permit.

SUMMARY: Notice is hereby given that Sea World, Inc., 7007 Sea World Drive, Orlando, Florida 32821 (Todd Robeck, D.V.M., Ph.D., Responsible Party and Principal Investigator) has been issued a permit to collect, receive, import, and export marine mammal specimens for scientific research purposes.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, FL 33701; phone (727)824-5312; fax (727)824-5309.

FOR FURTHER INFORMATION CONTACT: Amy Sloan or Jennifer Skidmore, (301)713-2289.

SUPPLEMENTARY INFORMATION: On October 9, 2003, notice was published in the Federal Register (68 FR 58316) that a request for a scientific research permit had been submitted by the above-named organization. The requested permit has been issued under the authority of the Marine Mammal Protection Act of 1972, as amended (16 U.S.C. 1361 et seq.), the regulations governing the taking and importing of marine mammals (50 CFR parts 18 and 216), the Endangered Species Act of 1973, as amended (ESA; 16 U.S.C. 1531 et seq.), and the regulations governing the taking, importing, and exporting of endangered and threatened species (50 CFR parts 222-226).

Sea World, Inc., has been issued a scientific research permit to collect, receive, import, and export a specified number of marine mammal specimens under the jurisdiction of NMFS and USFWS to study reproductive physiology, including endocrinology, gamete biology, cryophysiology, and assisted reproductive techniques. Species authorized include bottlenose dolphin (Tursiops truncatus), beluga whale (Delphinapterus leucas), killer whale (Orcinus orca), Pacific white-sided dolphin (Lagenorhynchus obliquidens), Commerson's dolphin (Cephalorhynchus commersonii), short-beaked common dolphin (Delphinus delphis), false killer whale (Pseudorca crassidens), Baiji (Lipotes vexillifer), Vaquita (Phocoena sinus), and walrus (Odobenus rosmarus). Only specimens collected legally and in a humane manner would be authorized by the permit. Sources of samples may include animals that have already died and from captive animals during routine husbandry procedures. No animals may be intentionally killed for the purpose of collecting specimens, and no money can be offered for the specimens. Specimens may be taken world-wide at anytime of the year for up to five years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) Was applied for in good faith; (2) will not operate to the disadvantage of such endangered species; and (3) is consistent with the purposes and policies set forth in section 2 of the ESA.

Dated: September 1, 2006.
P. Michael Payne,
Chief, Permits, Conservation and Education Division, Office of Protected Resources, National Marine Fisheries Service.
Dated: September 1, 2006.
Charlie R. Chandler,
Chief, Branch of Permits, Division of Management Authority, U.S. Fish and Wildlife Service.

[FR Doc. 06-7521 Filed 9-7-06; 8:45 am]

BILLING CODE 3510-22-S